DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of November 16 through November 27, 2009.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B), all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W-70,645; B.A. Ballou and Company, Inc., Leased Workers from Skill Master, East Providence, RI: September 15, 2008.

TA-W-70,719; Joseph T. Ryerson and Son, Inc., On-Site Workers from YRC Logistics and Staff Mark, Portland, OR: May 19, 2008.

TA-W-71,570; Sekisui Voltek, LLC, Coldwater Division, Sekisui Chemical Company, Coldwater, MI: July 7, 2008.

TA-W-71,698A; Hubbell, Inc. Delaware, Electrical Products Group, Electrical Products Group, Kellems Division, Milford, CT: July 15, 2008.

TA-W-71,698B; Hubbell, Inc (Delaware), Newtown, CT: July 15, 2008.

TA-W-71,698C; Hubbell, Inc. (Delaware), Premise Wiring Division, Stonington, CT: July 15, 2008.

TA-W-71,698D; Hubble, Inc. (Delaware), Electrical Segment, Electrical Systems, Orange, CT: July 15, 2008.

TA-W-71,698; Hubbell, Inc. (Delaware), Wiring Device, Kellems Division, Leased Workers from Adecco, Bridgeport, CT: July 15, 2008.

TA-W-72,654; Mount Vernon Neon, Everbrite, LLC, Leased Workers of Manpower, Mount Vernon, IL: October 15, 2008.

TA-W-72,051; Jacobs Chuck Manufacturing Company, Danaher Corporation, Leased Workers Etcon Staffing & Innovative Engineering, Clemson, SC: August 14, 2008.

TA-W-70,007; Prime Tanning Company, Hartland, ME: May 18, 2008.

TA-W-70,243; International Paper Company, Franklin, VA: May 19, 2008.

TA-W-70,380; Americas Styrenics, LLC, Leased Workers from Pioneer Pipe Company, Marietta, OH: May 20, 2008.

TA-W-70,473; United States Steel Corporation, Lorain, OH: May 21, 2008.

TA-W-70,683; E.I. DuPont De Nemours and Company, DuPont Protection Technologies Division, Leased Workers Schenker Logistics, Old Hickory, TN: May 26, 2008.

TA-W-70,789; Masterbrand Cabinet, Inc., Leased Workers from Manpower and Aerotek, Inc., Littlestown, PA: May 27, 2008.

TA-W-70,898; Ram Tool Company, Inc., Leased Workers from Partners for Performance, Conneaut Lake, PA: June 2, 2008.

TA-W-71,084; Sierra Pacific Industries, Quincy, CA: May 19, 2008.

TA-W-71,303; New Page Corporation, Cerberus Capital Management L.P./Leased Workers ADECCO Staffing, Wickliffe, KY: June 18, 2008.

TA-W-71,765; Robin Industries, Inc., Berlin Division, Berlin, OH: July 10, 2008.

TA-W-72,243; Frank J. Upchurch Company, Charlotte, NC: September 9, 2008.

TA-W-72,296; Kimball International, Inc., Kimball Office Sales and Marketing Division, Jasper, IN: September 14, 2008.

TA-W-72,371; Gardau Ameristeel, APG Security, 5 Brothers Lube, Perth Amboy, NJ: September 21, 2008.

TA-W-70,471; SpringBoard Technology Corporation, Springfield, MA: May 19, 2008.

TA-W-71,819B; Williamsburg Manufacturing, Williamsburg, IA: July 20, 2008.

TA-W-72,363; David Rothschild Company, Inc., Leased Workers from A and Y Staffing Service, Reidsville, NC: September 15, 2008.

TA-W-72,419; Invista, S.A'R.L., Performance Surfaces and Materials Division/Koch Industries, Inc., Athens, GA: September 22, 2008.

TA-W-72,858; Class Fashion, Inc., New York, NY: November 15, 2008.

The following certifications have been issued. The requirements of Section 222(a)(2)(B) (shift in production or services) of the Trade Act have been met.

TA-W-70,737; Meggitt Aircraft Braking Systems Corporation, Akron, OH: May 19, 2008.

TA-W-71,008; American Precision Industries, Inc., Leased Workers from Adecco and EGW Personnel Staffing, Amherst, NY: June 4, 2008.

TA-W-71,082; Hart & Cooley, Inc., Leased Workers from Demand Staff and Personnel Services, Winters, TX: June 4, 2008.

TA-W-71,105; Medtronic, Inc., Spring Lake Park Operation, Leased Workers from Manpower Temporary Services, Minneapolis, MN: June 8, 2008.

TA-W-71,123; Schott Solar, Inc., Leased Workers from National Engineering, Billerica, MA: June 9, 2008.

TA-W-71,207; Sanford Business to Business, Leased Workers of Manpower, Inc. and Spherion, Janesville, WI: June 12, 2008.

TA-W-71,438; The Gillette Company, Proctor and Gamble Blades & Razers Div., Lease Workers Adecco and Technical, Boston, MA: June 24, 2008.

TA-W-71,546; Bodet and Horst USA LP, Leased Workers From Select Staffing and Workforce Carolina, Mt. Airy, NC: July 6, 2008.

TA-W-71,624; Teknor Apex Company, Keknor Color Division, Hebronville, MA: July 8, 2008.

TA-W-71,729; Beresford Box, Inc., Spartanburg, SC: July 17, 2008.

TA-W-71,777; Fleetwood Travel Trailers of Ohio, Edgerton, OH: June 29, 2008.

TA-W-71,826; Weyerhaeuser Arcadia OSB Engineered Wood Products, Formerly Weyerhaeuser Co., I Level, Engineered Wood Products Division, Simsboro, LA: July 27, 2008.

TA-W-71,901; The Neff Company (CPI), Neff Motivation, Inc., Marysville, OH: July 31, 2008.

TA-W-72,414; Hanes Menswear Puerto Rico, Inc., Leased Workers from J. R. Ortiz Security, Inc., Ponce, PR: September 22, 2008.

TA-W-72,450; Hope Global of Detroit, Leased Workers from Staffing Network and DMEA, Detroit, MI: September 29, 2008.

TA-W-72,490A; Panduit Corporation., Leased Workers of Aerotek, Tinley Park, IL: September 29, 2008.

TA-W-72,490; Panduit Corporation, Leased Workers of Aerotek, New Lenox, IL: September 29, 2008.

TA-W-72,636; Dukes Titan Aviation LLC, Leased Workers of Jobiusa Staffing, Findlay, OH: October 20, 2008.

TA-W-72,702; Benchmark Electronics, Inc., Benchmark Division/Leased Workers from Express Personnel, Beaverton, OR: October 16, 2008.

TA-W-72,748; New United Motor Manufacturing, Inc., Venture of General Motors & Toyota Motor, Leased Workers From Corestaff, Fremont, CA: October 29, 2008.

TA-W-72,834; Covercraft Industries, Inc., Fremont, OH: November 9, 2008.

TA-W-70,763; Steelcase, Inc., Kentwood Regional Distribution Center, Kentwood, MI: May 27, 2008.

TA-W-70,839A; Tele Atlas North America, Inc, Concord, MA: May 20, 2008.

TA-W-70,839B; Tele Atlas North America, Inc, Detroit, MI: May 20, 2008.

TA-W-70,839C; Tele Atlas North America, Inc, Redwood, CA: May 20, 2008.

TA-W-70,839; Tele Atlas North America, Inc, Including Off-Site Workers Reporting to this Location, Lebanon, NH: May 20, 2008.

TA-W-71,208; Steelcase, Inc., Kentwood East and West Plants/Leased Workers of Manpower Professional, Kentwood, MI: May 27, 2008.

TA-W-72,416; Gates Denver Machining Center, Gates Corporation, Denver, CO: September 24, 2008.

TA-W-72,717; QRS Music Technologies, Inc., Seneca, PA: June 16, 2009.

TA-W-71,208A; Steelcase, Inc., Corporate Development Center/Leased Workers of Manpower Professional, Caledonia, MI: May 27, 2008.

TA-W-71,491; Teleperformance USA, Inc., Microsoft Office Live Support, Salt Lake City, UT: June 26, 2008.

TA-W-71,716; Malibu-Kahlua International, Pernod Richard, Leased Workers from Accountemps, Advantage Brook, Independent, White Plains, NY: July 9, 2008.

TA-W-71,746; International Business Machines Corporation (IBM), Global Services, Integrated Tech. Leased Workers from CDI Business Solutions, Lexington, KY: July 17, 2008.

TA-W-71,886A; Property Insight, Baltimore City, Baltimore, MD: July 27, 2008.

TA-W-71,886B; Property Insight, Frederick County, Frederick, MD: July 27, 2008.

TA-W-71,886C; Property Insight, Harford County, Bel Air, MD: July 27, 2008.

TA-W-71,886D; Property Insight, Prince Georges County, Upper Marlboro, MD: July 27, 2008.

TA-W-71,886; Property Insight, Baltimore County Facility, Towson, MD: July 27, 2008.

TA-W-72,228; Freescale Semiconductor, Inc., Oak Hill NPI Assembly Engineering Division, Austin, TX: September 4, 2008.

TA-W-72,252; Avaya Inc., Technical Integration Organization/Avaya Professional Services, Basking Ridge, NJ: May 28, 2008.

TA-W-72,337; Intermec Technologies Corporation, Charlotte Service Depot, Leased Workers From Pace Staffing Network, Charlotte, NC: September 16, 2008.

TA-W-72,453; Perot Systems, Data Center Operations Department, Plano, TX: September 28, 2008.

TA-W-72,643; Seagate Technology LLC, Corporate Headquarters, Leased Workers of Spherion, Workforcelogic, Scotts Valley, CA: May 29, 2008.

TA-W-72,723; Amdocs, Inc., Customer Care and Billing Division, IQN, Working in Many States, Chesterfield, MO: October 27, 2008.

TA-W-71,054A; Apria Healthcare, Leased Workers from Corestaff, Indianapolis, IN: June 5, 2008.

TA-W-71,054B; Apria Healthcare, Leased Workers from Corestaff, Mechesney Park, IL: June 5, 2008.

TA-W-71,054C; Apria Healthcare, Leased Workers from Corestaff, Cromwell, CT: June 5, 2008.

TA-W-71,054D; Apria Healthcare, Leased Workers from Corestaff, Tampa, FL: June 5, 2008.

TA-W-71,054E; Apria Healthcare, Leased Workers from Corestaff, Minster, OH: June 5, 2008.

TA-W-71,054F; Apria Healthcare, Leased Workers from Corestaff, St. Louis, MO: June 5, 2008.

TA-W-71,054G; Apria Healthcare, Leased Workers from Corestaff, San Diego, CA: June 5, 2008.

TA-W-71,054; Apria Healthcare, Leased Workers from Corestaff, Foothill Ranch, CA: June 5, 2008.

TA-W-71,899; Warner Music, Inc., Warner Music Group, Corp., Leased Workers From Spherion, Burbank, CA: July 31, 2008.

TA-W-72,467; Advanta Bank Corporation, Collections Call Center Division, Draper, UT: September 28, 2008.

TA-W-72,517; American Institute of Physics, Publishing Center Division, Leased Workers From Office Team, Access Staffing, Melville, NY: September 30, 2008.

The following certifications have been issued. The requirements of Section 222(b) (adversely affected workers in public agencies) of the Trade Act have been met.

None.

The following certifications have been issued. The requirements of Section 222(c) (supplier to a firm whose workers are certified eligible to apply for TAA) of the Trade Act have been met.

TA-W-71,156; G-Seven Ltd, Hatfield, PA: June 10, 2008.

TA-W-71,548; U.S. Steel Tubular Products, Inc., Tubular Processing Services Division, Leased Workers of Harbor American Texas, Houston, TX: July 3, 2008.

TA-W-71,819A; Marada Industries, Inc., Division of Magna International, Westminster, MD: July 20, 2008.

TA-W-71,819; Benco Manufacturing, Div. of Magna Intern'l, Temp Associates, Manpower, Belle Plaine, IA: July 20, 2008.

TA-W-70,483; Novellus Systems Inc., Boise, ID: May 21, 2008.

TA-W-71,915A; Plum Creek, Clearwater Division/Plum Creek Timber, Leased Workers Work Force, Streamside, Seeley Lake, MT: July 6, 2008.

TA-W-71,915; Plum Creek, Clearwater Division/Plum Creek Timber, Leased Workers Work Force, Streamside, Missoula, MT:July 6, 2008.

TA-W-72,250; Cleanpak International, CES Group/Leased Workers from Aerotek Commerical Staffing, Clackamas, OR: September 8, 2008.

TA-W-72,365; Axcelis Technologies, Inc., Boise, ID. September 17, 2008.

The following certifications have been issued. The requirements of Section 222(c) (downstream producer for a firm whose workers are certified eligible to apply for TAA) of the Trade Act have been met.

None.

The following certifications have been issued. The requirements of Section 222(f) (firms identified by the International Trade Commission) of the Trade Act have been met.

TA-W-71,111; Evraz Oregon Steel Mills, Inc., Evraz, Inc., North America/Leased Workers from Robert Half, Portland, OR: July 28, 2007.

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W-70,708; Wilson Sporting Goods Company, Team Sports Division, Ada, OH.

TA-W-72,630; Daedalus Technologies Inc., Daedalus Technologies of Quebec Canada, Kennesaw, GA.

The investigation revealed that the criteria under paragraphs (a)(2)(A)(i) (decline in sales or production, or both) and (a)(2)(B) (shift in production or services to a foreign country) of section 222 have not been met.

TA-W-71,100; Standard Precision Manufacturing, Meadville, PA.

The investigation revealed that the criteria under paragraphs(a)(2)(A) (increased imports) and (a)(2)(B) (shift in production or services to a foreign country) of section 222 have not been met.

TA-W-70,072; Maxon Furniture, Inc., Leased Workers From Select Staffing, Salisbury, NC.

TA-W-70,267A; Boise Cascade LLC Inland Region, Stud Mill, Elgin, OR.

TA-W-70,267; Boise Cascade LLC Inland Region, Plywood Mill, Elgin, OR.

TA-W-70,559; Horn Textile, Inc., Titasville, PA.

TA-W-70,754; NYPac Leather, LLC, Gloversville, NY.

TA-W-70,759; Lund Boat Company, A Subsidiary of Brunswick Corporation, New York Mills, MN.

TA-W-70,863; Chevron Mining, Inc., Questa Mine, Questa, NM.

TA-W-70,877; Schmidt-Hardy Chevrolet, Dealership Service Department, Cuba, MO.

TA-W-71,051; Seymour Tubing, Inc., Dunlap, TN.

TA-W-71,596; ATS Systems Oregon, Corvallis, OR.

TA-W-71,651; Keystone Findings, Inc., Telford, PA.

TA-W-70,778; Guide Corporation, Anderson, IN.

TA-W-71,643; Dietrich Industries, Inc., Worthington Industries, Pittsburgh, PA.

TA-W-71,780; Getrag Corporation, Leased Workers from Eger, Inc., Kontec U.S.A., LLC, Sterling Heights, MI.

TA-W-71,863; UAW Local 1999, Oklahoma City, OK.

TA-W-72,275; Anheuser-Busch, Inc., Mount Vernon, IL.

TA-W-72,413; Classic Automotive, Inc., Cullman, AL.

TA-W-72,522; Glass and Glazing Forensics, Inc., Troy, MI.

TA-W-72,859; RJ America Inc, Brooklyn, NY.

The investigation revealed that the criteria under paragraphs (b)(2) and (b)(3) (public agency acquisition of services from a foreign country) of section 222 have not been met.

None.

The investigation revealed that criteria of Section 222(c)(2) has not been met. The workers' firm (or subdivision) is not a Supplier to or a Downstream Producer for a firm whose workers were certified as eligible to apply for TAA.

None.

I hereby certify that the aforementioned determinations were issued during the period of November 16 through November 27, 2009. Copies of these determinations are available for inspection in Room N-5428, U.S. Department of Labor, 200 Constitution Avenue, NW., Washington, DC 20210 during normal business hours or will be mailed to persons who write to the above address.

Dated: January 14, 2010.
Elliott S. Kushner
Certifying Officer Division of Trade Adjustment Assistance.

[FR Doc. 2010-1313 Filed 1-22-10; 8:45 am]

BILLING CODE 4510-FN-P